DEPARTMENT OF THE TREASURY

Customs Service

Notice of Cancellation of Customs Broker License

AGENCY: Customs Service, Department of the Treasury.

ACTION: General notice.

SUMMARY: Pursuant to section 641 of the Tariff Act of 1930 as amended (19 U.S.C. 1641) and the Customs Regulations [19 CFR 111.51(a)], the following Customs broker license is canceled without prejudice.

Name | License | Port
Seino America, Inc | 10930 | Los Angeles.

Dated: March 8, 2002.
Bonni G. Tischler,
Assistant Commissioner, Office of Field Operations.

[FR Doc. 02-7537 Filed 3-28-02; 8:45 am]

BILLING CODE 4820-02-P